CONSUMER PRODUCT SAFETY COMMISSION

Sunshine Act Meeting

TIME AND PLACE: Wednesday, October 4, 2023—10:00 a.m.

PLACE: Room 420, Bethesda Towers, 4330 East West Highway, Bethesda, MD.

STATUS: Commission Meeting—Open to the Public

MATTERS TO BE CONSIDERED:

Decisional Matter: Notice of Proposed Rulemaking—Safety Standard for Infant Rockers and Infant/Toddler Rockers.

A live webcast of the meeting can be viewed at the following link: https://cpsc.webex.com/weblink/register/rcba2daff690fcdbc61d969fd800c6446.

CONTACT PERSON FOR MORE INFORMATION: Alberta E. Mills, Office of the Secretary, U.S. Consumer Product Safety Commission, 4330 East-West Highway, Bethesda, MD 20814, 301-504-7479 (Office) or 240-863-8939 (Cell).

Dated: September 27, 2023.
Elina Lingappa,
Paralegal Specialist, Office of the Commission Secretary.

[FR Doc. 2023-21720 Filed 9-27-23; 4:15 pm]

BILLING CODE 6355-01-P